Proclamation 9291 of May 29, 2015

National Caribbean-American Heritage Month, 2015

By the President of the United States of America

A Proclamation

For centuries, Americans have been united with our Caribbean neighbors not just by friendship and economic cooperation, but also by our common values and ties of kin. From a region of extraordinary beauty, generations of immigrants have brought their enormous spirit, unique talents, and vibrant culture to the United States. Their contributions have enriched our Nation and strengthened the deep bonds between our peoples. This month, we celebrate the Caribbean Americans whose legacies are woven into the fabric of our Nation, and we reaffirm our belief that throughout the region, we all share a stake in one another's success.

As partners, our nations have reached for progress together, and in our diverse cultures and complex histories, we see a common trajectory toward a more free, equal, and prosperous community. Throughout the Caribbean, courageous peoples have thrown off the yoke of colonial rule, seizing the right to chart their own destinies, and they have overcome the stains of slavery and segregation to widen the circle of opportunity for all. Here in America, Caribbean Americans have followed in the footsteps of their ancestors, joining their voices with the chorus of patriots and carrying forward the baton of justice—from the battlefield and the outfield, in places like Selma and Seneca Falls, and through powerful song, poetry, and prose.

Just as our nations' pasts are shared, our futures are inextricably linked. As millions of Caribbean Americans continue to innovate and thrive in the United States, my Administration is committed to lifting up hardworking individuals throughout the Caribbean and partnering with governments to build the foundation for the next century of progress and prosperity. We are investing in young business leaders and civil society activists, working to expand what is possible for the next generation of Caribbean leaders, and supporting entrepreneurship, student exchanges, and more effective job training. With new partnerships, we are helping to move the region toward cleaner, more affordable energy. And as the United States begins to normalize our relations with Cuba, we have the potential to empower a nation and end a legacy of mistrust in our hemisphere.

America is and always has been a Nation of immigrants, and today—as pillars of family and leaders in their communities—Caribbean Americans strengthen every aspect of our society. We must ensure our Nation remains a magnet for the best and the brightest around the world. Because of my 2012 DACA policy, thousands of DREAMers from the Caribbean have been able to live up to their potential, and last year, I announced my intent to take action that would allow more high-skilled immigrants, graduates, entrepreneurs, and families to contribute to our economy, including by expanding the existing DACA policy and creating a new policy to provide temporary relief to certain undocumented parents of American citizens and lawful permanent residents. And I continue to call on the Congress to finish the job by passing comprehensive immigration reform.

Caribbean Americans have shaped the course of our country since the earliest chapters of our history, and they continue to drive our Nation to realize the promise of our founding. During National Caribbean-American Heritage Month, we honor the courage and perseverance of the Caribbean-American community, and we rededicate ourselves to building opportunity and protecting human rights for all our citizens.

NOW, THEREFORE, I, BARACK OBAMA, President of the United States of America, by virtue of the authority vested in me by the Constitution and the laws of the United States, do hereby proclaim June 2015 as National Caribbean-American Heritage Month. I encourage all Americans to celebrate the history and culture of Caribbean Americans with appropriate ceremonies and activities.

IN WITNESS WHEREOF, I have hereunto set my hand this twenty-ninth day of May, in the year of our Lord two thousand fifteen, and of the Independence of the United States of America the two hundred and thirty-ninth.

[FR Doc. 2015-13748

Filed 6-2-15; 11:15 am]

Billing code 3295-F5